DEPARTMENT OF HEALTH AND HUMAN SERVICES

Centers for Disease Control and Prevention

[60Day-06-06BJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Experiment in Mapping Behavioral Risk Factors Surveillance Survey (BRFSS) Data—NEW—National Center for Chronic Disease Prevention and Health Promotion (NCCDPHP), Centers for Disease Control and Prevention (CDC).

Background and Brief Description

The purpose of this study is to design and implement a Web-based interview examining the differential effectiveness of presenting BRFSS data in two different mapping formats, choropleth versus isopleth maps. Traditionally, geospatial data are presented in choropleth maps, where defined geographic units, such as county or state boundaries, are filled with a uniform color or pattern. Choropleth maps present data as geographic areas shaded with intensity proportional to the data values associated with those areas. Such maps are appropriate for data that have been scaled or normalized. Alternatively, geospatial data can be displayed using isopleth maps, in which the data are not aggregated to pre-defined geographic units, but instead are “smoothed” across adjacent geographic boundaries. Such maps may show county or state boundaries, but different categories of data are not defined by these geographic units. Little empirical research has examined the differential effectiveness of choropleth versus isopleth maps. In particular, researchers know little about how the two different mapping techniques affect the user's ability to extract information from the map.

The Web-based interview will present both choropleth and isopleth maps displaying BRFSS data in seven color categories. To maintain a low survey burden for each participant, the instrument will include only 4 questions for each of 10 maps. The interview will also include additional questions about respondent's preferences for map types and background characteristics. The survey instrument will be comprised of 50 items, including the 40 map questions, 4 questions about users' preferences for different map formats, and 6 questions about their educational and professional background and demographic characteristics. Analysis of the data will assess 4 key areas to determine which type of map is ideal for presenting BRFSS data:

1. Rate retrieval

2. Pattern recognition

3. Ease of understanding

4. User preferences

The results of these analyses will be presented in a final report to be submitted to the CDC. There are no costs to respondents other than their time.

Estimated Annualized Burden Hours
Respondents | Number of respondents | Number of responses per respondent | Average burden per response (in hrs.) | Total burden hours
Experiment in Mapping BRFSS Data | 400 | 1 | 30/60 | 200
Total |  |  |  | 200

Dated: June 19, 2006.
Joan F. Karr,
Acting Reports Clearance Officer, Centers for Disease Control and Prevention.

[FR Doc. E6-10025 Filed 6-23-06; 8:45 am]

BILLING CODE 4163-18-P